DEPARTMENT OF LABOR

Employment and Training Administration

[TA-W-34,013]

Alcatel Telecommunications Cable Roanoke, Virginia; Notice of Negative Determination on Remand

On July 27, 2000, the United States Court of International Trade remanded this matter to the Secretary of Labor for further investigation in Former Employees of Alcatel Telecommunications Cable v. Secretary of Labor, No. 98-03-00540 (Ct. Int'l Trade 2000).

The Department's initial negative determination of eligibility to apply for trade adjustment assistance (TAA) for the workers and former workers of Alcatel Telecommunications Cable located in Roanoke, Virginia was issued on December 9, 1997 and published in the Federal Register on January 6, 1998, see 63 Fed. Reg. 577 (1998). The denial was based on the finding that criteria (3) of the group eligibility requirements of Section 222 of the Trade Act of 1974, as amended, 19 U.S.C. 2231(a)(1)(A)(iii) and (B), were not met: i.e., imports did not contribute importantly to the worker separations, and the company transferred production to another domestic location.

On remand, the court ordered the Department to undertake a full and complete investigation into the eligibility of former workers at Alcatel Telecommunications cable, Roanoke, Virginia to apply for trade adjustment assistance (TAA).

A complete investigation was undertaken, and the results of that investigation revealed that increased imports of singlemode optical fiber did not contribute importantly to the worker separations. Information provided by the company revealed that the company imports of singlemode optical fiber in 1998 were less than 2% of the 1997 production levels at the Roanoke facility. Further, a survey of Alcatel's customers who were purchasing singlemode optical fiber for the U.S. market revealed that those customers did not increase their reliance on purchases of imported singlemode optical fiber.

Conclusion

After careful consideration of the results of the remand investigation, I affirm the original notice of negative determination of eligibility to apply for trade adjustment assistance for workers and former workers of Alcatel Telecommunications Cable, Roanoke, Virginia.

Signed at Washington, DC this 11th day of September 2000.
Edward A. Tomchick,
Program Manager, Division of Trade Adjustment Assistance.

[FR Doc. 00-24422 Filed 9-21-00; 8:45 am]

BILLING CODE 4510-30-M